DEPARTMENT OF HEALTH AND HUMAN SERVICES

Centers for Disease Control and Prevention

[60-Day-20-1180; Docket No. CDC-2019-0092]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Airline and Vessel and Traveler Information Collection (42 CFR part 71) that enables CDC to order air carriers and maritime vessels to provide certain contact information for travelers in the event there is a confirmed illness onboard that poses a public health risk.

DATES: CDC must receive written comments on or before February 21, 2020.

ADDRESSES: You may submit comments, identified by Docket No. CDC-2020-0092 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, of the Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Airline and Vessel and Traveler Information Collection (42 CFR part 71) (0920-1180 expires 05/31/2020)—Revision—Division of Global Migration and Quarantine (DGMQ), National Center for Emerging Zoonotic and Infectious Diseases (NCEZID), Centers for Disease Control and Prevention (CDC).

Background and Brief Description

Under the Public Health Service Act (42 United States Code 264), and under 42 Code of Federal Regulations (CFR) 71.4 and 71.5, CDC can order air carriers and maritime vessels arriving from another country to submit a certain information related to passengers and crew that CDC believes were exposed to co-traveler infected with a communicable disease of public health concern.

Stopping a communicable disease outbreak—whether it is naturally occurring or intentionally caused—requires the use of the most rapid and effective public health tools available. Basic public health practices, such as collaborating with airlines in the identification and notification of potentially exposed contacts, are critical tools in the fight against the introduction, transmission, and spread of communicable diseases in the United States.

The collection of pertinent contact information enables Quarantine Public Health Officers in CDC's Division of Global Migration and Quarantine (DGMQ) to notify state and local health departments in order for them to make contact with individuals who may have been exposed to a contagious person during travel and identify appropriate next steps.

In the event that there is a confirmed case of communicable disease of public health concern aboard an aircraft or maritime vessel, CDC collects manifest information for those passengers and crew at risk for exposure. This specific manifest information collection differs depending on the communicable disease that is confirmed during air or maritime travel. CDC then uses this passenger and crew manifest information to coordinate with state and local health departments so they can follow-up with residents who live or are currently located in their jurisdiction. In general, state and local health departments are responsible for the contact investigations. In rare cases, CDC may use the manifest data to perform the contact investigation directly. In either case, CDC works with state and local health departments to ensure individuals are contacted and provided appropriate public health follow-up.

CDC estimates that for each traveler manifest ordered, airlines require approximately six hours to review the order, search their records, and send those records to CDC. There is no cost to respondents other than their time perform these actions. The total estimated hourly burden to respondents as a result of this information collection is 600 hours per year. While CDC has included maritime conveyance manifest orders in the public health rationale for this information collection, these orders are rare and are not included in the burden table.

Estimated Annualized Burden Hours
Type of respondent | Form name | Number of respondents | Number of responses per respondent | Average burden per response (in hours) | Total burden (in hours)
Airline Medical Officer or Equivalent/Computer and Information Systems Manager | International TB Manifest Template | 51 | 1 | 360/60 | 306
Airline Medical Officer or Equivalent/Computer and Information Systems Manager | International Non-TB Manifest Template | 49 | 1 | 360/60 | 294
Total |  |  |  |  | 600

Jeffrey M. Zirger,
Lead, Information Collection Review Office, Office of Scientific Integrity, Office of Science, Centers for Disease Control and Prevention.

[FR Doc. 2019-27557 Filed 12-20-19; 8:45 am]

BILLING CODE 4163-18-P